DEPARTMENT OF ENERGY

Federal Energy Regulatory Commission

[Project No. 13102-003]

Birch Power Company; Notice of Technical Meeting

a. Date and Time of Meeting: January 8, 2018 at 10:00 a.m. Eastern Standard Time (11:00 a.m. Central Standard Time).

b. Place: Telephone conference.

c. FERC Contact: Sarah Salazar at sarah.salazar@ferc.gov, or (202) 502-6863.

d. Purpose of Meeting: Commission Staff is hosting a technical meeting to discuss: (1) Our regulatory (licensing) process; (2) the recommended alternative in the draft environmental assessment issued on June 29, 2017 for the proposed Demopolis Lock and Dam Hydroelectric Project; and (3) comments on the US Fish and Wildlife Service's draft biological opinion for the project.

e. A summary of the meeting will be prepared and filed in the Commission's public file for the project.

g. All local, state, and federal agencies, Indian tribes, and other interested parties are invited to participate by phone. Please call Sarah Salazar at (202) 502-6863 by January 3, 2018, to RSVP and to receive specific instructions on how to participate.

Dated: December 22, 2017.
Nathaniel J. Davis, Sr.,
Deputy Secretary.

[FR Doc. 2017-28325 Filed 1-2-18; 8:45 am]

BILLING CODE 6717-01-P